ENVIRONMENTAL PROTECTION AGENCY

[FRL-10016-27-OA]

Notification of Public Meetings of the Science Advisory Board Radiation Advisory Committee Augmented for the Review of Revision 2 of the Multi-Agency Radiation Survey and Site Investigation Manual (MARSSIM) (Draft for Public Comment)

AGENCY: Environmental Protection Agency (EPA).

ACTION: Notice.

SUMMARY: The Environmental Protection Agency (EPA or Agency) Science Advisory Board (SAB) Staff Office announces two meetings of the Radiation Advisory Committee (RAC) Augmented for the Review of Revision 2 of the Multi-Agency Radiation Survey and Site Investigation Manual (Draft for Public Comment) (MARSSIM). A public teleconference will be held as a preparatory meeting for the RAC-augmented MARSSIM Panel to receive an Agency briefing, review charge questions, and to hear public comments on Revision 2 of MARSSIM (Draft for Public Comment). This will be followed by a virtual public meeting for the Panel to peer review Revision 2 of MARSSIM (Draft for Public Comment).

DATES: The public teleconference will be held on Thursday, December 3, 2020, from 1:00 p.m. to 5:00 p.m. (Eastern Standard Time). The public meeting will be held remotely via webcast and teleconference on January 11-14, 2021 (Monday-Thursday), from 12:00 p.m. to 5:00 p.m. (Eastern Standard Time).

ADDRESSES: The public teleconference will be held by telephone only. The public virtual meeting will be conducted via webcast and teleconference.

FOR FURTHER INFORMATION CONTACT: Any member of the public wishing further information regarding these meetings may contact Dr. Diana Wong, Designated Federal Officer (DFO), SAB Staff Office, via email at wong.diana-M@epa.gov. General information concerning the EPA Science Advisory Board can be found at the EPA SAB website at http://www.epa.gov/sab.

SUPPLEMENTARY INFORMATION: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB RAC—augmented MARSSIM Panel will hold a public teleconference and a public virtual peer review meeting. The purpose of the teleconference is for the Panel to receive an Agency briefing, review charge questions, and to hear public comments on Revision 2 of the Multi-Agency Radiation Survey and Site Investigation Manual (MARSSIM) (Draft for Public Comment). The purpose of the public virtual review meeting is for the Panel to conduct a peer review on Revision 2 of MARSSIM (Draft for Public Comment). This SAB panel will provide advice to the Administrator through the chartered SAB.

Background: EPA's Office of Air and Radiation (OAR) requested that the SAB conduct a peer review on Revision 2 of Multi-Agency Radiation Survey and Site Investigation Manual (MARSSIM) (Draft for Public Comment). MARSSIM was originally developed by the technical staffs of the four Federal agencies having authority for control of radioactive materials: DoD, DOE, EPA, and NRC (60 FR 12555; March 7, 1995). The four agencies issued Revision 1 to MARSSIM in August 2000, and additional edits to Revision 1 in June 2001. MARSSIM has not been updated since 2001; updates prior to 2001 primarily consisted of minor non-technical edits. Revision 2 updates the science, clarifies methods, and implements lessons learned from over 20 years of the document's use in industry.

MARSSIM provides information on planning, conducting, evaluating, and documenting environmental radiological surveys of surface soil and building surfaces for demonstrating compliance with regulations. MARSSIM, when finalized as Revision 2, will update this multi-agency consensus document. The EPA SAB Staff Office augmented the SAB RAC with subject matter experts to provide advice through the chartered SAB regarding this document.

Technical Contacts: Any technical questions concerning Revision 2 of Multi-Agency Radiation Survey and Site Investigation Manual (MARSSIM) (Draft for Public Comment) should be directed to Kathryn Snead of the U.S. EPA, Office of Radiation and Indoor Air, by email at snead.kathryn@epa.gov.

Availability of Meeting Materials: Prior to the meeting, the agenda and other materials will be accessible through the calendar link on the blue navigation bar at http://www.epa.gov/sab/. Materials may also be accessed at the following SAB web page: https://yosemite.epa.gov/sab/sabproduct.nsf//LookupWebProjectsCurrentBOARD/E1D35FEB397932FF8525854D00836CFA?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, for the group conducting the activity, for the SAB to consider during the advisory process. Input from the public to the SAB will have the most impact if it provides specific scientific or technical information or analysis for SAB committees and panels to consider or if it relates to the clarity or accuracy of the technical information. Members of the public wishing to provide comment should contact the DFO directly.

Oral Statements: In general, individuals or groups requesting an oral presentation on a public teleconference will be limited to three minutes and an oral presentation at the virtual public review meeting will be limited to five minutes. Interested parties wishing to provide comments should contact Dr. Diana Wong, DFO via email, at the contact information noted above, by November 25, 2020, to be placed on the list of registered speakers for the teleconference and by January 4, 2021, to be placed on the list of registered speakers for the peer review meeting.

Written Statements: Written statements will be accepted throughout the advisory process; however, for timely consideration by Committee/Panel members, statements should be supplied to the DFO via email at the contact information noted above by January 4, 2021, so that the information may be made available to the SAB Panel for their consideration. It is the SAB Staff Office general policy to post written comments on the web page for the advisory meeting or teleconference. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Diana Wong at wong.diana-M@epa.gov. To request accommodation of a disability, please contact Dr. Wong preferably at least ten days prior to the meeting, to give EPA as much time as possible to process your request.

Dated: October 22, 2020.
V. Khanna Johnson,
Deputy Director, EPA Science Advisory Board Staff Office.

[FR Doc. 2020-24093 Filed 10-29-20; 8:45 am]

BILLING CODE 6560-50-P